DEPARTMENT OF THE INTERIOR

Fish and Wildlife Service

[FWS-R4-R-2010-N091] [40137-1263-0000-0X]

Proposed Information Collection; OMB Control Number 1018-NEW; Refuge Daily Visitor Use Report and Check-In Permit

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by July 6, 2010.

ADDRESSES: Send your comments on the IC to Hope Grey, Information Collection Clearance Officer, Fish and Wildlife Service, MS 222-ARLSQ, 4401 North Fairfax Drive, Arlington, VA 22203 (mail); or hope_grey@fws.gov (e-mail).

FOR FURTHER INFORMATION CONTACT: To request additional information about this IC, contact Hope Grey by mail or e-mail (see ADDRESSES) or by telephone at (703) 358-2482.

SUPPLEMENTARY INFORMATION:

I. Abstract

The National Wildlife Refuge System Administration Act of 1966 (16 U.S.C. 668dd-668ee), as amended by the National Wildlife Refuge System Improvement Act of 1997, and the Refuge Recreation Act of 1962 (16 U.S.C. 460k-460k-4) govern the administration and uses of national wildlife refuges and wetland management districts. We are authorized to permit public uses on lands of the National Wildlife Refuge System, including hunting, fishing, wildlife observation, wildlife photography, and environmental education and interpretation, and other visitor uses when we find that the activities are compatible and appropriate with the purpose or purposes for which the refuges were established.

We collect information on hunters and anglers and other visitors in order to protect refuge resources and administer and evaluate the success of visitor programs. Because of high demand and limited resources, we often provide visitor opportunities by permit, based on dates, locations, or type of public use. We may not allow all opportunities on all refuges and harvest information differs on each refuge. Therefore, we are proposing two forms to collect this information. Not all refuges will use each form and some refuges may collect the information in a nonform format. We propose to collect:

• Information on the visitor (name, address, and contact information).

• Whether or not hunters/anglers were successful (number and type of harvest/caught).

• Purpose of visit (hunting, fishing, wildlife observation, wildlife photography, auto touring, birding, hiking, boating/canoeing, visitor center, special event, environmental education class, volunteering, other recreation).

• Date of visit.

This information will be a vital tool in meeting refuge objectives and maintaining quality visitor experiences. The above information will help us:

• Administer and monitor visitor programs and facilities on refuges.

• Distribute visitor permits to ensure safety of visitors.

• Ensure a quality visitor experience.

• Minimize resource disturbance, manage healthy game populations, and ensure the protection of fish and wildlife species.

• Assist in Statewide wildlife management and enforcement and develop reliable estimates of the number of all game fish and wildlife.

• Determine facility and program needs and budgets.

II. Data

OMB Control Number: 1018-XXXX.

Title: Refuge Daily Visitor Use Report and Check-In Permit.

Service Form Number(s): 3-2405 and 3-2406.

Type of Request: Request for a new OMB control number.

Affected Public: Visitors to national wildlife refuges.

Respondent's Obligation: Required to obtain or retain a benefit.

Frequency of Collection: On occasion.

Activity | Number of annual respondents | Number of annual responses | Completion time per response | Annual burden hours
FWS Form 3-2405 - Visitor Check-In Permit and Use Report | 590,000 | 590,000 | 5 minutes | 49,167
FWS Form 3-2406 - Daily Visitor Use Report | 60,000 | 60,000 | 5 minutes | 5,000
Totals | 650,000 | 650,000 |  | 54,167

III. Request for Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: April 30, 2010
Hope Grey,
Information Collection Clearance Officer, Fish and Wildlife Service.

[FR Doc. 2010-10695 Filed 5-5-10; 8:45 am]

BILLING CODE 4310-55-S